DEPARTMENT OF ENERGY

Federal Energy Regulatory Commission

[Docket No. PF12-11-000]

El Paso Natural Gas Company; Notice of Public Scoping Meetings for the Planned SASABE Lateral Project

On October 18 and 20, 2012, the Federal Energy Regulatory Commission (FERC or Commission) Office of Energy Project's staff will hold public scoping meetings for El Paso Natural Gas Company's (El Paso) Sasabe Lateral Project (Project). The Project is a planned 60-mile-long natural gas pipeline that would link El Paso's existing South Mainline System near Tucson, Arizona, to a point at the U.S.-Mexico border near the town of Sasabe, Arizona. FERC staff will conduct public scoping meetings as part of their preparation of an environmental impact statement (EIS) on the Project. The scoping meetings are designed to provide the public with an opportunity to offer verbal comments on the Project and on the issues they believe should be addressed in the EIS.

More information about this Project and the Commission's EIS process is available in the Notice of Intent to Prepare an Environmental Impact Statement for the Planned Sasabe Lateral Project and Request for Comments on Environmental Issues (NOI), issued on August 1, 2012. The NOI also provides details on how to submit written comments in lieu of or in addition to verbal comments on the Project.

The public scoping meetings are scheduled as follows:

Date and time | Location
Thursday, October 18, 2012 6:00 p.m. local time | Robles Elementary School, Cafeteria, 9875 South Sasabe Road, Tucson, AZ 85735.
Saturday, October 20, 2012 10:00 a.m. local time ¹ | San Fernando Elementary School, 1 Schoolhouse Drive, Sasabe, AZ 85633.
¹ A Spanish-English translator will be provided at this meeting.

All public meetings will be posted on the Commission's calendar located at www.ferc.gov/EventCalendar/EventsList.aspx along with other related information. Please note that the scoping period for the Project will close on October 27, 2012, 7 days after the last scoping meeting, as mentioned in the NOI.

This notice is being sent to the Commission's current environmental mailing list for this Project. The NOI and additional information about the project is available from the Commission's Office of External Affairs, at (866) 208-FERC, or on the FERC Web site at www.ferc.gov using the “eLibrary” link. Click on the eLibrary link, click on “General Search” and enter the docket number, excluding the last three digits in the Docket Number field (i.e., PF12-11). Be sure you have selected an appropriate date range. For assistance, please contact FERC Online Support at FercOnlineSupport@ferc.gov or toll free at (866) 208-3676, or for TTY, contact (202) 502-8659.

Dated: September 24, 2012.
Kimberly D. Bose,
Secretary.

[FR Doc. 2012-23932 Filed 9-27-12; 8:45 am]

BILLING CODE 6717-01-P